ENVIRONMENTAL PROTECTION AGENCY

40 CFR Part 52

[IL 200-3a; FRL-7558-3]

Approval and Promulgation of Implementation Plans; Illinois; Revised Motor Vehicle Emissions Inventories and Motor Vehicle Emissions Budgets Using MOBILE6

AGENCY: Environmental Protection Agency (EPA).

ACTION: Direct final rule.

SUMMARY: EPA is approving a revision dated April 11, 2003, to the Illinois State Implementation Plan (SIP) for the attainment of the 1-hour national ambient air quality standard (NAAQS) for ozone. Specifically, EPA is approving Illinois' revised 2005 and 2007 motor vehicle emission inventories and 2005 and 2007 Motor Vehicle Emissions Budgets (MVEB) recalculated using MOBILE6 for the Chicago severe 1-hour ozone nonattainment area.

DATES: This rule is effective on November 14, 2003, unless EPA receives relevant adverse written comments by October 15, 2003. If adverse comment is received, EPA will publish a timely withdrawal of the rule in the Federal Register and inform the public that the rule will not take effect.

ADDRESSES: You should send written comments to: J. Elmer Bortzer, Chief, Regulation Development Section, Air Programs Branch (AR-18J), U.S. Environmental Protection Agency, Region 5, 77 West Jackson Boulevard, Chicago, Illinois 60604.

Comments may also be submitted electronically, or through hand delivery/courier, please follow the detailed instructions described in Part (I)(B) of the Supplementary Information section.

You may inspect copies of the State submittal and EPA's analysis of it at:

Regulation Development Section, Air Programs Branch (AR-18J), U.S. Environmental Protection Agency, Region 5, 77 West Jackson Boulevard, Chicago, Illinois 60604. (Please telephone Patricia Morris at (312) 353-8656 before visiting the Region 5 Office.)

FOR FURTHER INFORMATION CONTACT: Patricia Morris, Environmental Scientist, Regulation Development Section (AR-18J), Air Programs Branch, Air and Radiation Division, United States Environmental Protection Agency, Region 5, 77 West Jackson Boulevard, Chicago, Illinois 60604, (312) 353-8656, morris.patricia@epa.gov.

SUPPLEMENTARY INFORMATION: Throughout this document whenever “we”, “our” or “us” are used we mean the EPA.

This Supplementary Information section is organized as follows:

I. General Information

II. Background

III. What is MOBILE6?

IV. What is the purpose and content of Illinois' submittal?

V. What are the revised MOBILE6 inventories?

VI. Are the revised MOBILE6 inventories consistent with Illinois' One-Hour Ozone Attainment Demonstration?

VII. Are Illinois' Motor Vehicle Emissions Budgets Approvable?

VIII. EPA Action

IX. Statutory and Executive Order Reviews

I. General Information

A. How Can I Get Copies of This Document and Other Related Information?

1. The Regional Office has established an official public rulemaking file available for inspection at the Regional Office. EPA has established an official public rulemaking file for this action under Region 5 Air Docket Number IL 200-3. The official public file consists of the documents specifically referenced in this action, any public comments received, and other information related to this action. Although a part of the official docket, the public rulemaking file does not include Confidential Business Information (CBI) or other information whose disclosure is restricted by statute. The official public rulemaking file is the collection of materials that is available for public viewing at the Air Programs Branch, Air and Radiation Division, EPA Region 5, 77 West Jackson Boulevard, Chicago, Illinois 60604. EPA requests that if at all possible, you contact the contact listed in the For Further Information Contact section to schedule your inspection. The Regional Office's official hours of business are Monday through Friday, 8:30 to 4:30 excluding Federal holidays.

2. Electronic Access. You may access this Federal Register document electronically through the regulation.gov Web site located at http://www.regulations.gov where you can find, review, and submit comments on Federal rules that have been published in the Federal Register, the Government's legal newspaper, and are open for comment.

For public commenters, it is important to note that EPA's policy is that public comments, whether submitted electronically or in paper, will be made available for public viewing at the EPA Regional Office, as EPA receives them and without change, unless the comment contains copyrighted material, CBI, or other information whose disclosure is restricted by statute. When EPA identifies a comment containing copyrighted material, EPA will provide a reference to that material in the version of the comment that is placed in the official public rulemaking file. The entire printed comment, including the copyrighted material, will be available at the Regional Office for public inspection.

B. How and to Whom Do I Submit Comments?

You may submit comments electronically, by mail, or through hand delivery/courier. To ensure proper receipt by EPA, identify the appropriate rulemaking identification number by including the text “Public comment on proposed rulemaking Region 5 Air Docket IL 200-3” in the subject line on the first page of your comment. Please ensure that your comments are submitted within the specified comment period. Comments received after the close of the comment period will be marked “late.” EPA is not required to consider these late comments.

1. Electronically. If you submit an electronic comment as described below, EPA recommends that you include your name, mailing address, and an e-mail address or other contact information in the body of your comment. Also include this contact information on the outside of any disk or CD-ROM you submit, and in any cover letter accompanying the disk or CD-ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket. If EPA cannot read your comment due to technical difficulties and cannot contact you for clarification, EPA may not be able to consider your comment.

i. E-mail. Comments may be sent by electronic mail (e-mail) to bortzer.jay@epa.gov. Please include the text “Public comment on proposed rulemaking Air Docket number IL 200-3” in the subject line. EPA's e-mail system is not an “anonymous access” system. If you send an e-mail comment directly without going through regulations.gov, EPA's e-mail system automatically captures your e-mail address. E-mail addresses that are automatically captured by EPA's e-mail system are included as part of the comment that is placed in the official public docket.

ii. Regulations.gov. Your use of regulations.gov is an alternative method of submitting electronic comments to EPA. Go directly to regulations.gov at http://www.regulations.gov, then click on the button “TO SEARCH FOR REGULATIONS CLICK HERE”, and select Environmental Protection Agency as the Agency name to search on. The list of current EPA actions available for comment will be listed. Please follow the online instructions for submitting comments. The system is an “anonymous access” system, which means EPA will not know your identity, e-mail address, or other contact information unless you provide it in the body of your comment.

iii. Disk or CD ROM. You may submit comments on a disk or CD ROM that you mail to the mailing address identified in Section 2, directly below. These electronic submissions will be accepted in WordPerfect, Word or ASCII file format. Avoid the use of special characters and any form of encryption.

2. By Mail. Send your comments to: J. Elmer Bortzer, Chief, Regulation Development Section, Air Programs Branch, (AR-18J), U.S. Environmental Protection Agency, Region 5, 77 West Jackson Boulevard, Chicago, Illinois 60604. Please include the text “Public comment on proposed rulemaking Regional Air Docket IL200-3” in the subject line on the first page of your comment.

3. By Hand Delivery or Courier. Deliver your comments to: J. Elmer Bortzer, Chief, Regulation Development Section, Air Programs Branch, (AR-18J), U.S. Environmental Protection Agency, Region 5, 77 West Jackson Boulevard, 18th floor, Chicago, Illinois 60604. Such deliveries are only accepted during the Regional Office's normal hours of operation. The Regional Office's official hours of business are Monday through Friday, 8:30 to 4:30 excluding Federal holidays.

C. How Should I Submit CBI to the Agency?

Do not submit information that you consider to be CBI electronically to EPA. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR Part 2.

In addition to one complete version of the comment that includes any information claimed as CBI, a copy of the comment that does not contain the information claimed as CBI must be submitted for inclusion in the official public regional rulemaking file. If you submit the copy that does not contain CBI on disk or CD ROM, mark the outside of the disk or CD ROM clearly that it does not contain CBI. Information not marked as CBI will be included in the public file and available for public inspection without prior notice. If you have any questions about CBI or the procedures for claiming CBI, please consult the person identified in the FOR FURTHER INFORMATION CONTACT section.

D. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate regional file/rulemaking identification number in the subject line on the first page of your response. It would also be helpful if you provide the name, date, and Federal Register citation related to your comments.

II. Background

In November of 1999, EPA issued two memoranda ¹ to articulate its policy regarding states that incorporated MOBILE5-based interim Tier 2 standard ² benefits into their SIPs and MVEBs. Although these memoranda primarily targeted certain serious and severe ozone nonattainment areas, EPA has implemented this policy in all other areas that have made use of federal Tier 2 benefits in air quality plans from EPA's April 2000 MOBILE5 guidance, “MOBILE5 Information Sheet #8: Tier 2 Benefits Using MOBILE5.” All states whose attainment demonstrations or maintenance plans include interim MOBILE5-based estimates of the Tier 2 standards were required to make a commitment to revise and resubmit their MVEBs within either one or two years of the final release of MOBILE6 in order to gain SIP approval.

¹ Memoranda, “Guidance on Motor Vehicle Emissions Budgets in 1-Hour Ozone Attainment Demonstrations,” issued November 3, 1999, and “1-Hour Ozone Attainment Demonstrations and Tier2/Sulfur Rulemaking,” issued November 8, 1999. Copies of these memoranda are on EPA's Web site at http://www.epa.gov/otaq/transp/traqconf.htm.

² The final rule on Tier 2 Motor Vehicle Emissions Standards and Gasoline Sulfur Control Requirements (“Tier 2 standards”) for passenger cars, light trucks, and larger passenger vehicles was published on February 10, 2000 (65 FR 6698).

On December 26, 2000, Illinois submitted a revision to the One-Hour Ozone Attainment Demonstration SIP for the Chicago severe ozone area. This SIP revision included, among other things, revised MVEBs using interim MOBILE5-based estimates of the Tier 2 standards and an enforceable commitment to revise the attainment demonstration using the MOBILE6 model, including MVEBs, within two years of the release of the model. Additional information on EPA's final approval of Illinois' December 26, 2000 submittal is in the November 13, 2001 Federal Register (66 FR 56931).

EPA officially released the MOBILE6 motor vehicle emissions factor model on January 29, 2002 (67 FR 4254). Thus, the effective date of that Federal Register notice constituted the start of the two year time period in which Illinois was required to revise its One-Hour Ozone Attainment Demonstration SIP using the MOBILE6 model. Illinois was required to submit this SIP revision to EPA by January 29, 2004.

III. What Is MOBILE6?

MOBILE is an EPA emissions factor model for estimating pollution from on-road motor vehicles in states outside of California. MOBILE calculates emissions of volatile organic compounds (VOCs), oxides of nitrogen (NOX) and carbon monoxide (CO) from passenger cars, motorcycles, buses, and light-duty and heavy-duty trucks. The model accounts for the emission impacts of factors such as changes in vehicle emission standards, changes in vehicle populations and activity, and variation in local conditions such as temperature, humidity, fuel quality, and air quality programs.

MOBILE is used to calculate current and future inventories of motor vehicle emissions at the national and local level. These inventories are used to make decisions about air pollution policies and programs at the local, state and national level. Inventories based on MOBILE are also used to meet the federal Clean Air Act's SIP and transportation conformity requirements.

MOBILE6 is the first major update of the MOBILE model since 1993. The MOBILE model was first developed in 1978. It has been updated many times to reflect changes in the vehicle fleet and fuels, to incorporate EPA's growing understanding of vehicle emissions, and to cover new emissions regulations and modeling needs. Although some minor updates were made in 1996 with the release of MOBILE5b, MOBILE6 is the first major revision to MOBILE since MOBILE5a was released in 1993.

IV. What Is the Purpose and Content of Illinois' Submittal?

To address its enforceable commitment made in the December 26, 2000, Attainment Demonstration SIP revision, the State submitted a requested SIP revision on April 11, 2003, which revises the 2005 and 2007 motor vehicle emissions inventories and the 2005 and 2007 MVEBs using the MOBILE6 model. The April 11, 2003, submittal demonstrates that the new levels of motor vehicle emissions calculated using MOBILE6 continue to support achievement of the projected attainment of the one-hour ozone NAAQS for the Chicago area.

V. What Are the Revised MOBILE6 Inventories?

Table 1 below summarizes the revised motor vehicle emissions inventories in tons per summer day (tpd). The State developed these revised inventories using the latest planning assumptions, including updated vehicle registration data, vehicle miles traveled (VMT), speeds, fleet mix, and SIP control measures. EPA is approving these revised 2005 and 2007 motor vehicle emissions inventories.

Table 1.—Chicago's Revised Motor Vehicle Emissions Inventories
[Tons per day]
| 2005 VOC | 2007: VOC | 2007: NOX
Chicago Severe Area | 151.11 | 127.42 | 280.40

VI. Are the Revised MOBILE6 Inventories Consistent With Illinois' One-Hour Ozone Attainment Demonstration?

Illinois' attainment demonstration used photochemical grid modeling. For one-hour ozone, the daily peak one-hour concentration predicted in every grid cell by the model was compared to the ozone standard concentration of 124 parts per billion (ppb). This is best represented by the deterministic approach described in the 1996 Guidance on Use of Modeled Results to Demonstrate Attainment of the Ozone NAAQS, EPA, June 1996. That guidance also describes a statistical approach which allows a specific number of exceedances of the standard. However, final attainment is still determined in an absolute sense by comparing a predicted concentration with the one-hour standard value of 124 ppb. EPA has articulated its policy regarding the use of MOBILE6 in SIP development in its “Policy Guidance on the Use of MOBILE6 for SIP Development and Transportation Conformity” ³ and “Clarification of Policy Guidance for MOBILE6 in Mid-course Review Areas.” ⁴ This policy requires that new MOBILE6 MVEBs in areas that demonstrated attainment with absolute modeling meet two conditions. First, the new MOBILE6 based mobile source inventories are compared to the MOBILE5 based inventories for the attainment year. If the MOBILE6 mobile emissions are less than or equal to the MOBILE5 emissions, then the SIP continues to demonstrate attainment. Second, EPA's policy guidance requires the State to consider whether growth and control strategy assumptions for non-motor vehicle sources (i.e., point, area, and non-road mobile sources) are still accurate at the time the State developed the submittal.

³ Memorandum, “Policy Guidance on the Use of MOBILE6 for SIP Development and Transportation Conformity,” issued January 18, 2002. A copy of this memorandum can be found on EPA's Web site at http://www.epa.gov/otaq/transp/traqconf.htm.

⁴ Memorandum, “Clarification of Policy Guidance for MOBILE6 SIPs in Mid-course Review Areas,” issued February 12, 2003. A copy of this memorandum can be found on EPA's Web site at http://www.epa.gov/otaq/transp/traqconf.htm.

Consistent with this policy guidance, Illinois' updated MOBILE6 inventories were less than the MOBILE5 attainment demonstration inventories for the Chicago area. It should be noted that Illinois used the latest planning assumptions in development of the updated inventories. Illinois reviewed the growth and control strategy assumptions for non-motor vehicle sources, and concluded that these assumptions continue to be valid and support the one-hour Ozone Attainment Demonstration.

In summary, Illinois' April 11, 2003, submittal satisfies the conditions outlined in EPA's MOBILE6 Policy guidance, and demonstrates that the new levels of motor vehicle emissions calculated using MOBILE6 continue to support achievement of the projected attainment of the one-Hour Ozone NAAQS by the attainment date of 2007.

VII. Are Illinois' Motor Vehicle Emissions Budgets Approvable?

Table 2 below summarizes Illinois' revised 2005, and 2007 MVEBs contained in the April 11, 2003, submittal. The State developed MVEBs using the latest planning assumptions, including updated vehicle registration data, vehicle miles of travel (VMT), speeds, fleet mix, and SIP control measures. The Illinois submittal met all applicable requirements and EPA is approving these budgets.

Table 2.—Motor Vehicle Emissions Budgets
[Tons per day]
| 2005 VOC | 2007: VOC | 2007: NOX
Chicago Severe Area | 151.11 | 127.42 | 280.40

VIII. EPA Action

EPA is approving the Illinois SIP revision submitted on April 11, 2003. This submittal revises Illinois' 2005, and 2007 motor vehicle emission inventories and 2005, and 2007 MVEBs using MOBILE6 for the Chicago severe 1-hour ozone nonattainment area.

EPA is publishing this action without prior proposal, because EPA views this as a noncontroversial revision and anticipates no adverse comments. However, in a separate document in this Federal Register publication, EPA is proposing to approve the SIP revision should adverse written comments be filed. This action will be effective without further notice unless EPA receives relevant adverse written comments by October 15, 2003. Should the Agency receive such comment, we will publish a final rule informing the public that this action will not take effect. Any parties interested in commenting on this action should do so at this time. If we do not receive comments, this action will be effective on November 14, 2003.

IX. Statutory and Executive Order Reviews

Executive Order 12866: Regulatory Planning and Review

Under Executive Order 12866 (58 FR 51735, October 4, 1993), this action is not a “significant regulatory action” and therefore is not subject to review by the Office of Management and Budget.

Executive Order 13211: Actions Concerning Regulations That Significantly Affect Energy Supply, Distribution, or Use

For this reason, this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (65 FR 67249, November 9, 2000).

Executive Order 13132: Federalism

This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act.

Executive Order 13045: Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 14, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Oxides of nitrogen, Ozone, Transportation conformity, Volatile organic compound.

Dated: August 28, 2003.
William E. Muno,
Acting Regional Administrator, Region 5.

Part 52, chapter I, title 40 of the Code of Federal Regulations is amended as follows:

PART 52—[AMENDED]

1. The authority citation for part 52 continues to read as follows:

Authority: 42 U.S.C. 7401 et seq.

Subpart O—Illinois

2. Section 52.726 is amended by adding paragraph (ff) to read as follows:

§ 52.726 Control strategy: Ozone.

* * * * *

(ff) Approval—On April 11, 2003, Illinois submitted a revision to the ozone attainment plan for the Chicago severe 1-hour ozone nonattainment area. This plan revised the 2005 and 2007 Motor Vehicle Emissions Budgets (MVEB) recalculated using the emissions factor model MOBILE6. The approved motor vehicle emissions budgets are 151.11 tons per day VOC for 2005 and 127.42 tons per day VOC and 280.4 tons per day NOX for 2007.

[FR Doc. 03-23268 Filed 9-12-03; 8:45 am]

BILLING CODE 6560-50-P